DEPARTMENT OF HEALTH AND HUMAN SERVICES

Administration on Aging

Agency Information Collection Activities; Proposed Collection; Comment Request; Service; Provider Study

AGENCY: Administration on Aging, HHS.

ACTION: Notice.

SUMMARY: The Administration on Aging (AoA) is announcing an opportunity for public comment on the proposed collection of certain information by the agency. Under the Paperwork Reduction Act of 1995 (the PRA), Federal agencies are required to publish notice in the Federal Register concerning each proposed collection of information, including each proposed extension of an existing collection of information, and to allow 60 days for public comment in response to the notice. This notice solicits comments on the information collection requirements relating to Area Agency on Aging and Local Service Provider Study.

DATES: Submit written or electronic comments on the collection of information by May 3, 2010.

ADDRESSES: Submit electronic comments on the collection of information to: jennifer.klocinski@aoa.hhs.gov.

Submit written comments on the collection of information to Administration on Aging, Office of Evaluation, Washington, DC 20201.

FOR FURTHER INFORMATION CONTACT: Jennifer Klocinski at 202-357-0146.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, AoA is publishing notice of the proposed collection of information set forth in this document. With respect to the following collection of information, AoA invites comments on: (1) Whether the proposed collection of information is necessary for the proper performance of AoA's functions, including whether the information will have practical utility; (2) the accuracy of AoA's estimate of the burden of the proposed collection of information, including the validity of the methodology and assumptions used; (3) ways to enhance the quality, utility, and clarity of the information to be collected; and (4) ways to minimize the burden of the collection of information on respondents, including through the use of automated collection techniques when appropriate, and other forms of information technology.

The Administration on Aging collects annual program data at the state level and has sponsored studies to collect information regarding the Area Agencies on Aging. The third component of the Aging Network that administers and implements OAA programs, the Local Service Providers are poorly understood and characterized. The purpose of this data collection is to better understand the relationship between the Area Agencies on Aging and the Local Service Providers with whom they work to provide OAA programs to seniors. This data collection focuses on two areas: an investigation of the feasibility of compiling a national inventory of aging services providers; and an investigation of how Area Agencies on Aging utilize their providers to achieve program goals. This information will be used by AoA to determine the capacity of the provider network to meet the needs of the expected increase in the percentage of persons 60 years and older. The proposed data collection tools may be found on the AoA Web site at http://www.aoa.gov/AoARoot/Program_Results/Program_Evaluation.aspx.

AoA estimates the burden of this collection of information as follows: 200 hours

Dated: March 1, 2010.
Kathy Greenlee,
Assistant Secretary for Aging.

[FR Doc. 2010-4602 Filed 3-3-10; 8:45 am]

BILLING CODE 4154-01-P